DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 15, 2002.

Interested persons are invited to submit written comments regarding the subject matter of the investigations to the Director, Division of Trade Adjustment Assistance, at the address shown below, not later than April 15, 2002.

The petitions filed in this case are available for inspection at the Office of the Director, Division of Trade Adjustment Assistance, Employment and Training Administration, U.S. Department of Labor, Room C-5311, 200 Constitution Avenue, NW., Washington, DC 20210.

Signed at Washington, DC this 11th day of February, 2002.
Edward A. Tomchick,
Director, Division of Trade Adjustment Assistance.

Appendix
[Petitions Instituted on 02/11/2002]
TA-W | Subject firm (petitioners) | Location | Date of petition | Product(s)
40,772 | O-Cedar Brands (Comp) | Portland, IN | 01/31/2002 | Brushes, Mops and Brooms.
40,773 | S-B Power Tool (Comp) | Walnut Ridge, AR | 01/24/2002 | Power Tools.
40,774 | Frederick Goldman (Comp) | New York, NY | 12/18/2001 | Fine Jewelry.
40,775 | Pillowtex (Comp) | Tarboro, NC | 01/04/2002 | Cotton Yarn.
40,776 | PerkinElmer Life Science (Comp) | Beltsville, MD | 01/04/2002 | Cloned Receptors.
40,777 | New Era Textile Parts (Comp) | Gastonia, NC | 01/02/2002 | Card Screens used in Textile Industry.
40,778 | NACCO Materials Handling (Comp) | Greenville, NC | 01/29/2002 | Forklift Trucks and Parts.
40,779 | Bulklift International (UNITE) | Carpentersville, IL | 11/21/2001 | Packaging Bags.
40,780 | OZ-Gedney Mfg. (Wkrs) | Brooklyn, NY | 01/09/2002 | Electrical Fittings.
40,781 | Creative Leather & Vinyl (Wkrs) | Milwaukee, WI | 10/18/2001 | Cut & Sew Leather Parts.
40,782 | Philadelphia Mixers (IAM) | Palmyra, PA | 01/30/2002 | Mixers—Construction Work.
40,783 | Intertape Polymer Group (Wkrs) | Richmond, KY | 12/21/2001 | Pressure Sensitive Tape.
40,784 | Camtech Tool and Mold (Wkrs) | Meadville, PA | 12/20/2001 | Plastic Injection Molds.
40,785 | Boeing Company (UAW) | Long Beach, CA | 01/02/2002 | Commercial Aircrafts.
40,786 | LTV Steel Corp (Comp) | Cleveland, OH | 12/26/2001 | Railroads Serving Steel Facilities.
40,786A | LTV Steel Corp (Comp) | Cleveland, OH | 12/16/2001 | Railroads Serving Steel Facilities.
40,786B | LTV Steel Corp (Comp) | Cleveland, OH | 12/16/2001 | Railroads Serving Steel Facilities.
40,787 | GE Capital Modular Space (Comp) | Devon, PA | 11/02/2002 | Rent Trucks, Lease Portable Schools.
40,788 | Carey Industries (Comp) | Danbury, CT | 01/29/2002 | Textile Dyestuff.
40,789 | Ferro Corporation (USAW) | Pittsburgh, PA | 01/15/2002 | Glass Enamels.
40,790 | Springs Industries (Comp) | Fort Mill, SC | 01/14/2002 | Woven Greige Fabrics.
40,791 | Lea Industries (Comp) | Waynesville, NC | 12/05/2001 | Furniture.
40,792 | American Drew (Comp) | No. Wilkesboro, NC | 12/05/2001 | Furniture.
40,793 | ATR Wire and Cable Co. (Comp) | Danville, KY | 01/04/2002 | Radial Tires.
40,794 | Frederick Goldman (Comp) | New York, NY | 12/14/2001 | Jewelry.
40,795 | J and E International (Comp) | El Paso, TX | 12/29/2001 | Sales & Distribution of Copper Tubing.
40,796 | Theo. Tledemann and Son (Comp) | Mallwah, NJ | 10/25/2001 | Casket Interiors.
40,797 | Hazen Group (The) (UNITE) | Secaucus, NJ | 01/04/2002 | Ladies' Sportswear.
40,798 | Owen Federal Bank (Wkrs) | West Palm Beach, FL | 01/07/2002 | Mortgage Loan Servicing.
40,799 | Pinnacle/Tandycraft (Wkrs) | Pocahontas, AR | 01/11/2002 | Metal Photo Frames.
40,800 | Ohio Magnetics (Wkrs) | Maple Heights, OH | 01/21/2002 | Lifting and Separating Magnets.
40,801 | LTV Steel Corp (Wkrs) | Cleveland, OH | 01/18/2002 | Railroad Serving Steel Facilities.
40,802 | Geotemps, Inc (Wkrs) | Hurley, NM | 01/09/2002 | Mining Personnel Services.
40,803 | Lodestar Industrial (Comp) | Colville, WA | 11/29/2001 | Environmental Systems.
40,804 | Cabinet Works LLC (Wkrs) | Jeffeson City, TN | 12/05/2001 | Television Cabinets.
40,804A | Distinctive Woodworks LLC (Wkrs) | Jefferson City, TN | 12/05/2001 | Television Cabinets.
40,805 | Valeo Climate Control (Comp) | Decatur, IL | 12/03/2001 | Evaporator assemblies for Auto.
40,806 | PA-Ted Spring Co. (Comp) | El Paso, TX | 10/10/2001 | Compression, Extension & Torsion Springs.
40,807 | Down East Woodcrafters (Comp) | Skowhegan, ME | 01/09/2002 | Wooden Lathe.
40,808 | Crown, Cork and Seal (Wkrs) | S. Connellsville, PA | 01/04/2002 | Metal Paper Lined Closures.
40,809 | Cascade General (Comp) | Portland, OR | 05/31/2001 | Ship Repair Services.
40,810 | Solon Manufacturing (Comp) | Skowegan, ME | 01/15/2002 | Wooden Paint Paddles.
40,810A | Solon Manufacturing Co (Comp) | Solon, ME | 01/15/2002 | Wooden Paint Paddles.
40,810B | Solon Manufacturing Co (Comp) | Plymouth, NH | 01/15/2002 | Wooden Paint Paddles.
40,811 | Materials Processing (Comp) | Riverview, MI | 01/08/2002 | Coated Axles—Automotive.
40,812 | GeoComm Corp (Comp) | El Paso, TX | 01/16/2002 | Provide Telecommunication Services.
40,813 | Blough Wagner Mfg Co. (Comp) | Middleburg, PA | 01/15/2002 | Ladies' Knit Activewear.
40,813A | Blough-Wagner Mfg Co. (Comp) | Elysburg, PA | 01/15/2002 | Ladies Activewear.
40,814 | Master Lock (Wkrs) | Milwaukee, WI | 01/25/2002 | Laminated and Combination Locks.
40,815 | Bernhardt Furniture (Comp) | Lenoia, NC | 01/17/2002 | Home and Office Wood Furniture.
40,816 | Connolly North America (Comp) | Highland Park, MI | 11/01/2001 | Finished Leather.
40,817 | Northshore Mining Co. (Comp) | Silver Bay, MN | 12/19/2001 | Iron Ore Pellets.
40,817A | Northshore Mining Co. (Comp) | Babbitt, MN | 12/19/2001 | Iron Ore Pellets.
40,818 | Agfa Corporation (Comp) | Brevard, NC | 01/25/2002 | Medical X-Ray Film and Polyester Base.
40,819 | Schumacher Electric (Comp) | Hoopeston, IL | 01/28/2002 | Transformers and Lead Assemblies.
40,820 | John Solomon, Inc (Comp) | Somerville, MA | 01/10/2002 | Waistbands, Pockets—Textiles.

[FR Doc. 02-8268 Filed 4-4-02; 8:45 am]

BILLING CODE 4510-30-M